DEPARTMENT OF STATE

[Public Notice: 7226]

Determination Under The Supplemental Appropriations Act, 2010 (Pub. L. 111-212) Concerning Assistance for the Government of Haiti

Pursuant to section 1007(b)(1) of the Supplemental Appropriations Act, 2010 (Pub. L. 111-212), and Department of State Delegation of Authority Number 245-1, I hereby determine that the Government of Haiti is cooperating with United States reconstruction and reform efforts; and is demonstrating a commitment to accountability by removing corrupt officials, implementing fiscal transparency and other necessary reforms of government institutions, and facilitating active public engagement in governance and oversight of public resources.

This Determination shall be transmitted to the Congress and published in the Federal Register.

Dated: November 5, 2010.
Jacob J. Lew,
Deputy Secretary of State for Management and Resources.

[FR Doc. 2010-29508 Filed 11-22-10; 8:45 am]

BILLING CODE 4710-29-P